SOCIAL SECURITY ADMINISTRATION

Agency Information Collection Activities: Proposed Request and Comment Request

The Social Security Administration (SSA) publishes a list of information collection packages that will require clearance by the Office of Management and Budget (OMB) in compliance with Public Law 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below: (OMB), Office of Management and Budget, Attn: Desk Officer for SSA, Fax: 202-395-6974. (SSA), Social Security Administration, DCFAM, Attn: Reports Clearance Officer, 1333 Amex Building, 6401 Security Blvd., Baltimore, MD 21235. Fax: 410-965-6400.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Request for Workers' Compensation/Public Disability Benefit Information—20 CFR 404.408(e)—0960-0098. Section 224 of the Social Security Act provides for an offset of disability insurance benefits when workers' compensation (WC) or public disability benefits (PDB) is also being received. The SSA-1709 is used to request and/or verify information regarding WC/PDB given to Social Security disability recipients so that the proper adjustment is made to their monthly benefits. The respondents are Federal, State, and local agencies administering WC/PDB, insurance carriers, and public or private self-insured companies.

Type of Request: Extension of an OMB-approved information collection.

Number of Respondents: 120,000.

Frequency of Response: 1.

Average Burden per Response: 15 minutes.

Estimated Annual Burden: 30,000 hours.

2. Request for Reconsideration—20 CFR 404.907-404.921, 416.1407-416.1421—0960-0622. The information collected on Form SSA-561-U2 is used by SSA to document and initiate the reconsideration process for determining entitlement to Social Security benefits (Title II), Supplemental Security Income (SSI) payments (Title XVI), and Special Veterans Benefits (Title VIII). The respondents are individuals filing for reconsideration.

Type of Request: Extension of an OMB-approved information collection.

Number of Respondents: 1,455,000.

Frequency of Response: 1.

Average Burden per Response: 8 minutes.

Estimated Annual Burden: 194,000 hours.

3. Statement of Employer—20 CFR 404.801-803—0960-0030. The information collected on Form SSA-7011-F4 is needed to substantiate allegations of wages paid to workers when wages do not appear in SSA's records of earnings and the worker has no proof of said earnings. SSA can use the information to process claims for benefits and resolve discrepancies in the worker's earnings record. The respondents are certain employers who can verify wage allegations made by the wage earner.

Type of Request: Extension of an OMB-approved information collection.

Number of Respondents: 925,000.

Frequency of Response: 1.

Average Burden per Response: 20 minutes.

Estimated Annual Burden: 308,333 hours.

4. Claimant Statement About Loan of Food or Shelter; Statement About Food or Shelter Provided to Another—20 CFR 416.1130-416.1148—0960-0529. Forms SSA-5062 and SSA-L5063 are used to obtain statements about food and/or shelter provided to an SSI claimant or recipient. SSA uses this information to determine whether food and/or shelter are bona fide loans or should be counted as income for SSI purposes. This determination can affect eligibility for SSI and the amount of SSI benefits payable. The respondents are claimants/recipients for SSI benefits and individuals that provide loans of food and/or shelter to SSI claimants/recipients.

Type of Request: Extension of an OMB-approved information collection.

Number of Respondents: 131,080.

Frequency of Response: 1.

Average Burden per Response: 10 minutes.

Estimated Annual Burden: 21,847 hours.

5. Instructions for Completion of Federal Assistant Application—0960-0184.

The information on Form SSA-96 will be used to assist SSA in selecting grant proposals for funding based on their technical merits. The information will also assist in evaluating the soundness of the design of the proposed activities, the possibilities of obtaining productive results, the adequacy of resources to conduct the activities and the relationship to other similar activities that have been or are being conducted. The respondents are State and local governments. State-designated protection and advocacy groups, colleges and universities and profit and nonprofit private organizations.

Type of Request: Extension of an OMB-approved information collection.

Number of Respondents: 400.

Frequency of Response: 2 hours.

Average Burden per Response: 14 hours.

Estimated Annual Burden: 11,200 hours.

II. The information collections listed below have been submitted to OMB for clearance. Your comments on the information collections would be most useful if received by OMB and SSA within 30 days from the date of this publication. You can obtain a copy of the OMB clearance packages by calling the SSA Reports Clearance Office at 410-965-0454, or by writing to the address listed above.

1. Permanent Residence Under Color of the Law (PRUCOL)—20 CFR 416.1615 and 416.1618—0960-0451. Under Public Law 104-193, which was effective August 22, 1996, a non-citizen must be a “qualified alien” and meet certain additional requirements in order to be eligible for Supplemental Security income (SSI). This law also established an exception to the new requirements for certain “nonqualified aliens” (i.e., non-citizens who are not qualified aliens). Nonqualified aliens who were receiving SSI on August 22, 1996 were allowed to remain on the rolls until September 30, 1997, at which time benefits would be suspended if the aliens had not acquired alien status. Public Law 105-33 extended the suspension date to September 30, 1998. Public Law 105-306, enacted October 28, 1998, provided that nonqualified aliens who were receiving SSI on Ausut 22, 1996 would remain eligible for SSI after September 30, 1998 provided all other requirements for eligibility were met (e.g., income and resources, etc.). SSI eligibility for this group of aliens—“grandfathered nonqualified aliens”—will continue to be determined based on the rules governing alien eligibility in effect prior to August 22, 1996, i.e., the PRUCOL standard.

As discussed in SSA regulations at 20 CFR 416.1615 and 416.1618, a PRUCOL alien must present evidence of his/her alien status at application and periodically thereafter as part of the eligibility determination process for SSI. SSA verifies the validity of the evidence of PRUCOL for grandfathered nonqualified aliens with the Department of Homeland Security (DHS). Based on the DHS response, SSA will determine whether the individual is PRUCOL. Without this information, SSA would not be able to determine whether the individual is eligible for SSI payments. The respondents are individuals who have alien status and live in the United States.

Type of Request: Extension of an OMB-approved information collection.

Number of Respondents: 9,000.

Frequency of Response: 1.

Average Burden per Response: 5 minutes.

Estimated Annual Burden: 750 hours.

2. Request for Evidence from Doctor or Hospital—20 CFR 404.1512, 404.1513(a), (b) & (e), 404.1514, 416.912, 416.913(a), (b) & (e), 41694—0960-NEW. Claimants are required to provide medical evidence of their impairments(s) in pursuing a disability claim. SSA uses the forms listed below to request medical evidence from sources (doctors and hospitals) where the claimant has been treated, see or otherwise evaluated. Respondents are doctors and hospitals where the claimant has been evaluated.

Type of Request: Collection in Use Without OMB Number.

Form type | Number of respondents | Frequency of response | Number of responses | Average burden per response (minutes) | Estimated annual burden (hours)
Request for Evidence from a Doctor (J1) | 10,000 | 20 | 200,000 | 15 | 50,000
Request for Evidence from a Hospital (J2) | 10,000 | 20 | 200,000 | 15 | 50,000
Totals | 20,000 |  | 400,000 |  | 100,000

Estimated Annual Burden: 1000,000 hours.

3. Request for School Records—20 CFR Part 416, Subpart I, 416906, 416.913, 416.946, 404, Subpart P, Appendix 1—0960-NEW. School records are pertinent evidence in a childhood claim for disability benefits. ALJs send a letter to schools which the claimant has attended requesting the claimant's school records. These records are evaluated for evidence relative to the claimant's impairments or ability to do age-appropriate activities. Respondents are the school(s) which the claimant has attended.

Type of Request: Collection in Use Without OMB Number.

Number of Respondents: 10,000.

Frequency of Response: 6.

Average Burden per Response: 30 minutes.

Estimated Annual Burden: 30,000 hours.

4. Homeless Outreach Project and Evaluation (HOPE)—0960-0704.

Background

Congress passed the McKinney Act of 1987 in recognition of an in an effort to address situations and conditions facing people without permanent shelter. The Act funded 15 emergency services and nine individual titles to authorize the provision of specific programs by Federal agencies. The Act also established the Interagency Council on Homelessness (ICH) composed of leaders from 15 Federal agencies who are in charge of coordinating efforts to assist people who are homeless. During the past decade, SSA and other ICH agencies have compiled important data about people who are homeless and have carried out evaluations of services which have generated evidence about “best” or “promising practices” well suited to combating homelessness.

In fiscal year 2003, President George W. Bush announced an initiative to end chronic homelessness in 10 years. As a result, SSA developed Project HOPE and in May 2004 awarded34 Cooperative Agreements to organizations which provide outreach, support services and benefit application assistance to the chronically homeless and other underserved populations. An additional 7 cooperative agreements were awarded in November 2004 for a total of 41. The goal of Project HOPE is to improve both the quantity and quality of applications for disability benefits. Project HOPE gives focused support to Cooperative (co-op) awardees via a training program and ongoing technical assistance.

Evaluation of Project HOPE

SSA uses the project HOPE evaluation to determine the effectiveness and the efficiency of the program. To obtain the information needed for the evaluation, SSA has developed an interactive Web site that is used by co-op awardees to input client and program data, and by SSA to communicate project-wide announcements to the awardees. The respondents are HOPE grantees/non-profit social services organizations serving people who are homeless and disabled.

Type of Request: Extension of an OMB-approved information collection.

Number of Respondents: 41.

Frequency of Response: 12.

Average Burden per Response: 65 minutes.

Estimated Annual Burden: 533 hours.

Dated: March 6, 2006.
Elizabeth A. Davidson,
Reports Clearance Officer, Social Security Administration.

[FR Doc. 06-2289 Filed 3-10-06; 8:45 am]

BILLING CODE 4191-02-M